SMALL BUSINESS ADMINISTRATION

[Declaration of Disaster #3383]

State of Mississippi

As a result of the President's major disaster declaration on December 7, 2001, I find that Bolivar, DeSoto, Hinds, Humphreys, Madison, Panola, Quitman, Sunflower, Tate and Washington Counties in the State of Mississippi constitute a disaster area due to damages caused by severe storms, tornadoes and flooding that occurred on November 24, 2001 and continue. Applications for loans for physical damage as a result of this disaster may be filed until the close of business on February 5, 2002 and for economic injury until the close of business on September 9, 2002 at the address listed below or other locally announced locations: U.S. Small Business Administration, Disaster Area 2 Office, One Baltimore Place, Suite 300, Atlanta, GA 30308.

In addition, applications for economic injury loans from small businesses located in the following contiguous counties may be filed until the specified date at the above location: Attala, Claiborne, Coahoma, Copiah, Holmes, Issaquena, Lafayette, Leake, LeFlore, Marshall, Rankin, Scott, Sharkey, Simpson, Tallahatchie, Tunica, Warren, Yalobusha and Yazoo in the State of Mississippi; Chicot, Crittenden, Desha and Phillips counties in the State of Arkansas; East Carroll parish in the State of Louisiana; and Shelby county in the State of Tennessee.

The interest rates are:

| Percent
For Physical Damage:
Homeowners with credit available elsewhere | 6.500
Homeowners without credit available elsewhere | 3.250
Businesses with credit available elsewhere | 8.000
Businesses and non-profit organizations without credit available elsewhere | 4.000
Others (including non-profit organizations) with credit available elsewhere | 6.375
For Economic Injury:
Businesses and small agricultural cooperatives without credit available elsewhere | 4.000

The number assigned to this disaster for physical damage is 338311. For economic injury the number is 9N7200 for Mississippi; 9N7300 for Arkansas; 9N7400 for Louisiana; and 9N7500 for Tennessee.

(Catalog of Federal Domestic Assistance Program Nos. 59002 and 59008)
Dated: December 10, 2001.
Herbert L. Mitchell,
Associate Administrator for Disaster Assistance.

[FR Doc. 01-30974 Filed 12-14-01; 8:45 am]

BILLING CODE 8025-01-P